DEPARTMENT OF TRANSPORTATION

National Highway Traffic Safety Administration

[Docket No. NHTSA-2001-10531]

John Chevedden; Denial of Petition for Rulemaking

Mr. John Chevedden of Redondo Beach, California, petitioned for rulemaking to establish a new Federal Motor Vehicle Safety Standard requiring a non-glossy finish on the aerodynamic spoiler wings optionally installed on the rear of passenger vehicles.

Mr. Chevedden supported his request by stating that the surface of such spoilers is glossy because they are painted with the same glossy material as a vehicle. He observed that the spoilers reflect light into the rear view mirror causing glare and that this glare can temporarily impair the vision of drivers. He suggested these spoilers be required to have similar low reflectance performance as is required for windshield wiper arms in an existing Federal motor vehicle safety standard. He stated that the very reason that windshield wiper arms are prohibited from having glossy surfaces is the same as why the rear spoiler wings should be required to have non-glossy surfaces.

Previously Federal Motor Vehicle Safety Standard No. 107, Reflective Surfaces, was enacted to address the reduction of glare from windshield wiper arms, horn rings and etc. However, this standard was rescinded on May 2, 1996 at 61 FR 11587, because it was determined that there was no longer a need for it. Standard No. 107 had specified reflectance requirements that apply to specified metallic components in the driver's forward field of view: the windshield wiper arms and blades, the inside windshield moldings, the horn ring and hub of the steering wheel assembly, and the inside rearview mirror frame and mounting bracket. The standard had required that the specular gloss of the surface of these components not exceed 40 units when tested. “Specular gloss” refers to the amount of light reflected from a test specimen. The purpose of the standard was to reduce the likelihood that glare from the regulated components would distract drivers or interfere with their direct vision.

Mr. Chevedden's concern is about indirect vision, not direct vision. While glare in any form may be annoying, Mr. Chevedden has provided no evidence of any crashes caused by the problem that he has described. Further, we have reviewed consumer complaints regarding glare. To date, the agency has not received any complaints related to indirect glare produced by sunlight on rear spoiler wings. Thus, we are not aware of any evidence showing this to be a safety problem or a source of concern to motorists.

In consideration of the foregoing, NHTSA has decided that there is no reason at this time to pursue a new motor vehicle safety regulation in this area. Accordingly, Mr. Chevedden's petition is hereby denied.

(49 U.S.C. 30118(d) and 30120(h); delegations of authority at 49 CFR 1.50 and 501.8)
Issued on October 29, 2001.
Stephen R. Kratzke,
Associate Administrator for Safety Performance Standards.

[FR Doc. 01-27476 Filed 10-31-01; 8:45 am]

BILLING CODE 4910-59-P